NUCLEAR REGULATORY COMMISSION

Final Regulatory Guides: Impending Issuance, Availability, and Applicability to New Reactor Licensing

AGENCY: U.S. Nuclear Regulatory Commission.

ACTION: Issuance, Availability, and Applicability of Final Regulatory Guides for New Reactor Licensing.

SUMMARY: The U.S. Nuclear Regulatory Commission (NRC) is currently reviewing and revising numerous guides in the agency's Regulatory Guide (RG) Series. This series has been developed to describe, and make available to the public, methods that are acceptable to the NRC staff for implementing specific parts of the NRC's regulations, techniques that the staff uses in evaluating specific problems or postulated accidents, and data that the staff needs in its review of applications for permits and licenses.

Availability And Dates

The NRC will make each new or revised RG publicly available through the following electronic distribution channels:

• The NRC's Electronic Reading Room on the agency's public Web site, in the Regulatory Guides document collection, at http://www.nrc.gov/reading-rm/doc-collections/reg-guides/.

• The NRC's Agencywide Document Access and Management System (ADAMS), at http://www.nrc.gov/reading-rm/adams.html (using the ADAMS accession number specified in the footer on the first page of each regulatory guide).

Please note that the NRC does not intend to distribute printed copies of these revised RGs unless specifically requested on an individual basis with adequate justification. Requests for single copies should be made in writing to the U.S. Nuclear Regulatory Commission, Washington, DC 20555-0001, Attention: Reproduction and Distribution Services Section; by e-mail to DISTRIBUTION@nrc.gov; or by fax to (301) 415-2289. Telephone requests cannot be accommodated. In addition, the NRC does not intend to issue separate notices of issuance and availability. Consequently, interested parties should regularly peruse the previously specified electronic distribution channels to identify newly revised RGs.

RGs are not copyrighted, and Commission approval is not required to reproduce them. Copies of each RG and other related publicly available documents, including public comments received, can be viewed electronically on computers in the NRC's Public Document Room (PDR), which is located at One White Flint North, 11555 Rockville Pike, Rockville, Maryland, Room O-1 F21, and is open to the public on Federal workdays from 7:45 a.m. until 4:15 p.m. The PDR reproduction contractor will make copies of documents for a fee. Selected documents, including public comments on the DGs, can also be viewed and downloaded electronically via ADAMS at http://www.nrc.gov/NRC/reading-rm/adams.html. If you do not have access to ADAMS or if you encounter problems in accessing the documents stored in ADAMS, contact the PDR Reference Staff at (800) 397-4209 or (301) 415-4737, or by e-mail to PDR@nrc.gov.

SUPPLEMENTARY INFORMATION: The revised versions of the RGs will not be used as a backfit to any previously issued staff position for existing nuclear power reactors. The purpose of the ongoing revision of the NRC's RGs is to ensure that prospective applicants have complete, accurate, and current guidance for use in preparing early site permit (ESP), design certification (DC), and combined license (COL) applications for proposed new reactors. In particular, the NRC staff ensures that the agency's regulatory guidance is consistent with the rulemaking, “Licenses, Certifications, and Approvals for Nuclear Power Plants” (Title 10, Part 52, of the Code of Federal Regulations (10 CFR part 52)). The proposed rule was published in the Federal Register on March 13, 2006 (71 FR 12781).

Over the past several months, the NRC has issued drafts of the revised RGs for a 45-day public comment period. The NRC staff is currently addressing the stakeholder comments received on these RGs.

Discussion

The NRC regulates the siting, construction, and operation of commercially owned nuclear power facilities in the United States through a combination of regulatory requirements, licensing, and oversight (including inspection). These activities enable the agency to fulfill its mission to license and regulate the Nation's civilian use of byproduct, source, and special nuclear materials to ensure adequate protection of public health and safety, promote the common defense and security, and protect the environment.

In late 2000, the NRC became aware that some electric companies were exploring the option of building new nuclear power plants in the United States. As a result, in February 2001, the Commission issued a staff requirements memorandum (SRM COMJSM-00-0003) directing the staff to (1) assess its technical, licensing, and inspection capabilities, as well as its readiness to review new license applications and inspect new nuclear power plants; (2) examine the regulatory infrastructure for 10 CFR Parts 50 and 52, as well as other applicable regulations; and (3) identify any enhancements needed to ensure that the agency is prepared to review ESP, DC, and COL applications for new nuclear power plants.

In response to the Commission's SRM, the staff issued SECY-01-0188, “Future Licensing and Inspection Readiness Assessment” (FLIRA), in October 2001. In addition, although the FLIRA stated that the staff considers the agency's current regulatory infrastructure adequate to support new reactor licensing, the staff has undertaken major infrastructure changes to make new licensing reviews more effective and efficient, and to reduce unnecessary regulatory burden on future applicants. The staff's ongoing review and revision of the NRC's RGs is one significant aspect of these infrastructure changes.

Through the years, the NRC has established 10 broad divisions of RGs, of which the following are the subject of the staff's particular efforts to support new reactor licensing.

• Division 1, Power Reactors

• Division 4, Environmental and Siting

• Division 8, Occupational Health

Of these Divisions, the NRC identified a select group of RGs that required revision and are currently being updated to (1) ensure consistency with the rulemaking to update 10 CFR Part 52; (2) ensure coherence with NUREG-0800, “Standard Review Plan for the Review of Safety Analysis Reports for Nuclear Power Plants” (SRP), which is also undergoing staff review and revision; and (3) provide prospective applicants with complete, accurate, and current guidance for use in preparing ESP, DC, and COL applications for proposed new reactors. Following is a list of RGs along with the Draft Guide (DG) numbers used during the public comment period.

RG | DG title
1.7 DG-1117 | Control of Combustible Gas Concentrations in Containment Following a Loss-of-Coolant Accident.
1.9 DG-1172 | Application and Testing of Safety-Related Diesel Generators in Nuclear Power Plants.
1.13 DG-1162 | Spent Fuel Storage Facility Design Basis.
1.20 DG-1163 | Comprehensive Vibration Assessment Program for Reactor Internals During Preoperational and Initial Startup Testing.
1.23 DG-1164 | Meteorological Monitoring Programs for Nuclear Power Plants.
1.26 DG-1152 | Quality Group Classifications and Standards for Water-, Steam-, and Radioactive-Waste-Containing Components of Nuclear Power Plants.
1.29 DG-1156 | Seismic Design Classification.
1.37 DG-1165 | Quality Assurance Requirements for Cleaning of Fluid Systems and Associated Components of Water-Cooled Nuclear Power Plants.
1.57 DG-1158 | Design Limits and Loading Combinations for Metal Primary Reactor Containment System Components.
1.61 DG-1157 | Damping Values for Seismic Design of Nuclear Power Plants.
1.68 DG-1166 | Initial Test Programs for Water-Cooled Nuclear Power Plants.
1.71 DG-1167 | Welder Qualification for Areas of Limited Accessibility.
1.76 DG-1143 | Design Basis Tornado and Tornado Missiles for Nuclear Power Plants.
1.92 DG-1127 | Combining Modal Responses and Spatial Components in Seismic Response Analysis.
1.93 DG-1153 | Availability of Electric Power Sources.
1.97 DG-1128 | Criteria for Accident Monitoring Instrumentation for Nuclear Power Plants.
1.112 DG-1160 | Calculation of Releases of Radioactive Materials in Gaseous and Liquid Effluents from Light-Water-Cooled Power Reactors.
1.124 DG-1168 | Service Limits and Loading Combinations for Class 1 Linear-Type Component Supports.
1.128 DG-1154 | Installation Design and Installation of Vented Lead-Acid Storage Batteries for Nuclear Power Plants.
1.129 DG-1155 | Maintenance, Testing, and Replacement of Vented Lead-Acid Storage Batteries for Nuclear Power Plants.
1.130 DG-1169 | Service Limits and Loading Combinations for Class 1 Plate-and-Shell-Type Component Supports.
1.136 DG-1159 | Design Limits, Loading Combinations, Materials, Construction, and Testing of Concrete Containments.
1.189 DG-1170 | Fire Protection for Nuclear Power Plants.
1.196 DG-1171 | Control Room Habitability at Light-Water Nuclear Power Reactors.
1.200 DG-1161 | An Approach for Determining the Technical Adequacy of Probabilistic Risk Assessment Results for Risk-Informed Activities.
1.205 DG-1139 | Risk-Informed, Performance-Based Fire Protection for Existing Light-Water Nuclear Power Plants.
4.15 DG-4010 | Quality Assurance for Radiological Monitoring Programs (Inception through Normal Operations to License Termination)—Effluent Streams and the Environment.
The staff is also currently developing the following new RGs to provide prospective applicants with complete, accurate, and current guidance for use in preparing ESP, DC, and COL applications for proposed new reactors:
1.206 DG-1145 | Combined License Applications for Nuclear Power Plants (LWR Edition).
1.207 DG-1144 | Guidelines for Evaluating Fatigue Analyses Incorporating the Life Reduction of Metal Components Due to the Effects of the Light Reactor Water Environment for New Reactors.
1.208 DG-1146 | A Performance-Based Approach to Define the Site-Specific Earthquake Ground Motion.
1.209 DG-1142 | Guidelines for Environmental Qualification of Safety Related Computer-Based Instrumentation and Control Systems in Nuclear Power Plants.

The NRC finalized and published Revision 2 of RG 1.92 (July 2006), Revision 4 of RG 1.97 (July 2006), Revision 1 to RG 1.196 and Revision 1 of RG 1.200 (January 2007), and RG 1.205 (June 2006). The NRC plans to issue the remaining revised RGs as they are finalized between February and March of 2007. The staff has determined that the RGs listed previously may be uniformly applied (consistent with the staff guidance provided in the SRP) to the ESP, DC, and COL applications submitted for proposed new reactors.

Comment Procedures

The NRC staff encourages and welcomes comments and suggestions in connection with improvements to published RGs, as well as items for inclusion in RGs that are currently being developed. You may submit comments by any of the following methods:

• Mail comments to Rulemaking, Directives, and Editing Branch, Office of Administration, U.S. Nuclear Regulatory Commission, Washington, DC 20555-0001 (MS T-6 D59).

• Hand-deliver comments to Rulemaking, Directives, and Editing Branch, Office of Administration, U.S. Nuclear Regulatory Commission, 11555 Rockville Pike, Rockville, Maryland 20852, between 7:30 a.m. and 4:15 p.m. on Federal workdays.

• Fax comments to Rulemaking, Directives and Editing Branch, Office of Administration, U.S. Nuclear Regulatory Commission, at (301) 415-5144.

• E-mail comments to NRCREP@nrc.gov.

Contact Information: Contact information for use in obtaining printed or electronic copies of the revised RGs is provided in the section on Availability And Dates. Contact information for use in submitting comments is provided in the section on Comment Procedures. Comments or questions about the NRC's revision of RGs to support new reactor licensing should be addressed to Jimi T. Yerokun at (301) 415-0585 or by e-mail to JTY@nrc.gov.

(5 U.S.C. 552(a))

Dated at Rockville, Maryland, this 2nd day of February, 2007.
For the U.S. Nuclear Regulatory Commission,
Farouk Eltawila,
Director, Division of Risk Assessment and Special Projects, Office of Nuclear Regulatory Research.

[FR Doc. E7-2372 Filed 2-9-07; 8:45 am]

BILLING CODE 7590-01-P